DEPARTMENT OF DEFENSE

Department of the Navy

Notice of Availability of Government-Owned Inventions; Available for Licensing

AGENCY: Department of the Navy, DoD.

ACTION: Notice.

SUMMARY: The inventions listed below are assigned to the United States Government, as represented by the Secretary of the Navy and are available for domestic and foreign licensing by the Department of the Navy.

The following patents are available for licensing: Patent No. 9,589,241 (Navy Case No. 100169): ELECTRICAL RESOURCE CONTROLLER//Patent No. 9,590,611 (Navy Case No. 103212):

RADIATION-HARDENED DUAL GATE SEMICONDUCTOR TRANSISTOR DEVICES CONTAINING VARIOUS IMPROVED STRUCTURES INCLUDING MOSFET GATE AND JFET GATE STRUCTURES AND RELATED METHODS//Patent No. 9,593,919 (Navy Case No. 102520): METHOD AND APPARATUS FOR RAPID DEPLOYMENT OF A DESIRABLE MATERIAL OR CHEMICAL USING A PYROPHORIC SUBSTRATE//Patent No. 9,594,117 (Navy Case No. 103034): COMPACT ELECTRONICS TEST SYSTEM HAVING USER PROGRAMMABLE DEVICE INTERFACES AND ON-BOARD FUNCTIONS ADAPTED FOR USE IN PROXIMITY TO A RADIATION FIELD//Patent No. 9,594,000 (Navy Case No. 103027): VACUUM IMMERSION TEST SET//Patent No. 9,595,519 (Navy Case No. 200114): COMBINATION METAL OXIDE SEMI-CONDUCTOR FIELD EFFECT TRANSISTOR (MOSFET) AND JUNCTION FIELD EFFECT TRANSISTOR (JFET) OPERABLE FOR MODULATING CURRENT VOLTAGE RESPONSE OR MITIGATING ELECTROMAGNETIC OR RADIATION INTERFERENCE EFFECTS BY ALTERING CURRENT FLOW THROUGH THE MOSFETS SEMI-CONDUCTIVE CHANNEL REGION (SCR)//Patent No. 9,595,763 (Navy Case No. 200336): PROCESS FOR ASSEMBLING DIFFERENT CATEGORIES OF MULTI-ELEMENT ASSEMBLIES TO PREDETEMINED TOLERANCES AND ALIGNMENTS USING A RECONFIGURABLE ASSEMBLING AND ALIGNMENT APPARATUS//Patent No. 9,599,441 (Navy Case No. 102250): OFF-BOARD INFLUENCE SYSTEM//Patent No. 9,599,970 (Navy Case No. 102500): SAFETY CRITICAL CONTROL SYSTEM THAT INCLUDES CONTROL LOGIC OR MACHINE READABLE INSTRUCTIONS THAT SELECTIVELY LOCKS OR ENABLES THE CONTROL SYSTEM BASED ON ONE OR MORE MACHINE IMPLEMENTED STATE MACHINES THAT INCLUDES STATES ASSOCIATED WITH DETECTION OR MATCHING OF ONE OR MORE PREDETERMINED SIGNALS ON DISTINCT CONDUCTION PATHS BETWEEN ELEMENTS OF THE CONTROL SYSTEM AND RELATED METHODS//Patent No. 9,601,201 (Navy Case No. 200349): IRREPRODUCIBLE AND RE-EMERGENT UNIQUE STRUCTURE OR PATTERN IDENTIFIER MANUFACTURING AND DETECTION METHOD, SYSTEM, AND APPARATUS//Patent No. 9,601,214 (Navy Case No. 200363): METHOD AND SYSTEM FOR IMPROVING THE RADIATION TOLERANCE OF FLOATING GATE MEMORIES//Patent No. 9,602,203 (Navy Case No. 200118): METHODS AND SYSTEMS FOR IDENTIFICATION AND COMMUNICATION USING FREE SPACE OPTICAL SYSTEMS INCLUDING WEARABLE SYSTEMS//Patent No. 9,599,429 (Navy Case No. 200004): ADJUSTABLE ERGONOMIC GRIP FOR A WEAPON//and Patent No. 9,604,087 (Navy Case No. 200254): ROPE CLIMBING SYSTEMS AND METHODS OF USE.

ADDRESSES: Requests for copies of the patents cited should be directed to Naval Surface Warfare Center, Crane Div, Code OOL, Bldg 2, 300 Highway 361, Crane, IN 47522-5001.

FOR FURTHER INFORMATION CONTACT: Mr. Christopher Monsey, Naval Surface Warfare Center, Crane Div, Code OOL, Bldg 2, 300 Highway 361, Crane, IN 47522-5001, Email Christopher.Monsey@navy.mil.

Authority: 35 U.S.C. 207, 37 CFR part 404.

Dated: April 4, 2017.
A.M. Nichols,
Lieutenant Commander, Judge Advocate General's Corps, U.S. Navy, Federal Register Liaison Officer.

[FR Doc. 2017-07075 Filed 4-7-17; 8:45 am]

BILLING CODE 3810-FF-P